NEIGHBORHOOD REINVESTMENT CORPORATION

Sunshine Act Meetings; Audit Committee Meeting of the Board of Directors

TIME AND DATE: 2 p.m., Tuesday, February 11, 2014.

PLACE: NeighborWorks America—Gramlich Boardroom, 999 North Capitol Street NE., Washington, DC 20002.

STATUS: Open (with the exception of Executive Sessions).

CONTACT PERSON: Jeffrey Bryson, General Counsel/Secretary, (202) 760-4101; jbryson@nw.org.

AGENDA:

I. CALL TO ORDER

II. Presentation with the External Auditor

III. Executive Session with the External Auditor

IV. Executive Session with the Chief Audit Executive

V. Executive Session with Officers: Pending Litigation & Internal Operations

VI. Internal Audit Reports with Management's Response

VII. Internal Audit Status Reports

VIII. Compliance Update

IX. OHTS Watch List Review

X. Adjournment

Jeffrey T. Bryson,
EVP & General Counsel/Corporate Secretary.

[FR Doc. 2014-02398 Filed 1-31-14; 11:15 am]

BILLING CODE 7570-02-P